DEPARTMENT OF THE INTERIOR

National Park Service

Final Environmental Impact Statement/Primary Restoration Plan, Santa Cruz Island, Channel Islands National Park, Santa Barbara County, CA; Notice of Approval of Record of Decision

Summary: Pursuant to § 102(2)(C) of the National Environmental Policy Act of 1969 (Pub. L. 91-190, as amended) and the regulations promulgated by the Council on Environmental Quality (40 CFR part 1505.2), the Department of the Interior, National Park Service has prepared, and the Regional Director, Pacific West Region has approved, the Record of Decision for the Primary Restoration Plan for Santa Cruz Island at Channel Islands National Park. The formal no-action period was initiated October 18, 2002, with the U.S. Environmental Protection Agency's Federal Register notification of the filing of the Final Environmental Impact Statement (EIS).

Decision: As soon as practicable the National Park Service will begin to implement the Primary Restoration Plan described and analyzed as Alternative Four (Proposed Action) contained in the Final EIS. The selected plan features a deliberate, long-term (approximately six years) strategy which entails construction of fenced areas for managing pig eradication efforts, and coordinated use of prescribed burns and herbicide applications to control the highly invasive fennel (a non-native weed species).

This course of action and three alternatives were identified and analyzed in the Final EIS, and previously in the Draft EIS (the latter was distributed in March 2001). The full spectrum of foreseeable environmental consequences was assessed, and appropriate mitigation measures identified, for each alternative. Beginning with early scoping, through the preparation of the Draft and Final EIS, and including numerous public meetings, approximately 50 written comments were received and duly considered. No substantive or adverse comments were received during the no-action period, which ended on November 17, 2002. Key consultations which aided in the preparation of the Draft and Final EIS involved (but were not limited to) the U.S. Fish and Wildlife Service, California Dept. of Fish and Game, State Historic Preservation Office, Native American Tribes, Santa Barbara Museum of Natural History, The Nature Conservancy, and the Santa Cruz Island Foundation.

Copies: Interested parties desiring to review the Record of Decision may obtain a complete copy by contacting the Acting Superintendent, Channel Islands National Park, 1901 Spinnaker Dr., Ventura, California 93001; or via telephone request at (805) 658-5700.

Dated: February 10, 2003.
Arthur E. Eck,
Deputy Regional Director, Pacific West Region.

[FR Doc. 03-8501 Filed 4-7-03; 8:45 am]

BILLING CODE 4310-70-P